ELECTION ASSISTANCE COMMISSION

Public Hearing: Introduction and Foundation of VVSG 2.0 Requirements

AGENCY: U.S. Election Assistance Commission.

ACTION: Sunshine Act Notice; Notice of Public Hearing Agenda.

DATES: Friday, March 27, 2020 10:00 a.m.-12:00 p.m. Eastern.

ADDRESSES:

Virtual via Zoom:

https://zoom.us/j/516385751

Meeting ID: 516 385 751

One tap mobile

+19292056099,,516385751# US (New York)

+13126266799,,516385751# US (Chicago)

Dial by your location

+1 929 205 6099 US (New York)

+1 312 626 6799 US (Chicago)

+1 301 715 8592 US

+1 346 248 7799 US (Houston)

+1 669 900 6833 US (San Jose)

+1 253 215 8782 US

888 788 0099 US Toll-free

877 853 5247 US Toll-free

Meeting ID: 516 385 751

Find your local number: https://zoom.us/u/aev3sFIp8Q

FOR FURTHER INFORMATION CONTACT: Jerome Lovato, Telephone: (301) 960-1216, Email: jlovato@eac.gov.

SUPPLEMENTARY INFORMATION:

Agenda

Commissioners will hold a hearing to discuss the proposed Voluntary Voting System Guidelines (VVSG) 2.0 Requirements as submitted by the Technical Guidelines Development Committee (TGDC). The VVSG 2.0 Requirements are currently published for a 90-day public comment period. Commissioners will hear from a panel of experts who will provide an introduction to the VVSG process as well a high-level overview of the proposed VVSG 2.0 requirements. Commissioners will also hear from members of the public who wish to offer verbal testimony on the VVSG 2.0 requirements. Public testimony during the hearing will be limited to 3-5 minutes maximum per person. If you would like to participate in public testimony, please contact Jerome Lovato (jlovato@eac.gov) with your full name and phone number no later than 9:50 a.m. Eastern Time on March 27, 2020. For dial-in users, you will be identified by your area code and the last three digits of your phone number, so please provide the phone number that you will use during the hearing.

The TGDC unanimously approved to recommend VVSG 2.0 Requirements on February 7, 2020, and sent the Requirements to the EAC Acting Executive Director via the Director of the National Institute of Standards and Technology (NIST), in the capacity of the Chair of the TGDC on February 28, 2020. Upon adoption, the VVSG 2.0 would become the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1.

Status: This hearing will be open to the public.

Amanda Joiner,
Associate Counsel, U.S. Election Assistance Commission.

[FR Doc. 2020-06252 Filed 3-24-20; 8:45 am]

BILLING CODE P